FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 012057-007.

Title: CMA CGM/Maersk Line Space Charter, Sailing and Cooperative Working Agreement Asia to USEC and PNW-Suez/PNW & Panama Loops.

Parties: A.P. Moller-Maersk A/S and CMA CGM S.A.

Filing Party: Wayne R. Rohde, Esq.; Cozen O'Connor; 1627 I Street, NW Suite 1100; Washington, DC 20006.

Synopsis: The amendment would delete Morocco from the scope of the agreement, reflect the deployment of a sixteenth vessel, and revise the space allocations of the parties accordingly.

By Order of the Federal Maritime Commission.
Dated: March 30, 2012.
Rachel E. Dickon,
Assistant Secretary.

[FR Doc. 2012-8123 Filed 4-3-12; 8:45 am]

BILLING CODE 6730-01-P